DEPARTMENT OF ENERGY

Federal Energy Regulatory Commission

Combined Notice of Filings #1

Take notice that the Commission received the following exempt wholesale generator filings:

Docket Numbers: EG24-232-000.

Applicants: Hill Solar 1, LLC.

Description: Hill Solar 1, LLC submits Notice of Self-Certification of Exempt Wholesale Generator Status.

Filed Date: 7/26/24.

Accession Number: 20240726-5042.

Comment Date: 5 p.m. ET 8/16/24.

Take notice that the Commission received the following electric rate filings:

Docket Numbers: ER23-150-001.

Applicants: Southern Power Company.

Description: Compliance filing: Notice of Cancellation of Affiliate PPAs to be effective 6/27/2024.

Filed Date: 7/26/24.

Accession Number: 20240726-5039.

Comment Date: 5 p.m. ET 8/16/24.

Docket Numbers: ER24-1978-001.

Applicants: ISO New England Inc., New England Power Pool Participants Committee.

Description: Compliance filing: ISO New England Inc. submits tariff filing per 35: Compliance Filing to Correct Section I.2.2 in Docket No. ER24-1978 to be effective 7/9/2024.

Filed Date: 7/26/24.

Accession Number: 20240726-5146.

Comment Date: 5 p.m. ET 8/16/24.

Docket Numbers: ER24-2593-000.

Applicants: PJM Interconnection, L.L.C.

Description: Tariff Amendment: Notice of Cancellation of ISA No. 5380, AB1-182 to be effective 9/24/2024.

Filed Date: 7/25/24.

Accession Number: 20240725-5152.

Comment Date: 5 p.m. ET 8/15/24.

Docket Numbers: ER24-2594-000.

Applicants: PJM Interconnection, L.L.C.

Description: Tariff Amendment: Notice of Cancellation of WMPA, SA No. 6368; AF2-249 re: Breach to be effective 9/24/2024.

Filed Date: 7/25/24.

Accession Number: 20240725-5155.

Comment Date: 5 p.m. ET 8/15/24.

Docket Numbers: ER24-2595-000.

Applicants: Duke Energy Florida, LLC.

Description: Tariff Amendment: DEF—Termination of SA No. 158 to be effective 8/8/2024.

Filed Date: 7/25/24.

Accession Number: 20240725-5156.

Comment Date: 5 p.m. ET 8/15/24.

Docket Numbers: ER24-2596-000.

Applicants: Southwest Power Pool, Inc.

Description: § 205(d) Rate Filing: 3055R3 Associated Electric Cooperative, Inc. NITSA NOA to be effective 7/1/2024.

Filed Date: 7/26/24.

Accession Number: 20240726-5037.

Comment Date: 5 p.m. ET 8/16/24.

Docket Numbers: ER24-2597-000.

Applicants: Alabama Power Company, Georgia Power Company, Mississippi Power Company, Southern Power Company.

Description: Compliance filing: Alabama Power Company submits tariff filing per 35: Amendment to Southern's Tariff Vol. No. 4-add SPC Affiliate Sales Authorization to be effective 6/27/2024.

Filed Date: 7/26/24.

Accession Number: 20240726-5038.

Comment Date: 5 p.m. ET 8/16/24.

Docket Numbers: ER24-2598-000.

Applicants: Southwest Power Pool, Inc.

Description: § 205(d) Rate Filing: 3552R5 TEA and MEAN Meter Agent Agreement to be effective 7/1/2024.

Filed Date: 7/26/24.

Accession Number: 20240726-5040.

Comment Date: 5 p.m. ET 8/16/24.

Docket Numbers: ER24-2599-000.

Applicants: Midcontinent Independent System Operator, Inc.

Description: § 205(d) Rate Filing: 2024-07-26_SA 4314 MDU-OTP GIA (S1014) to be effective 7/19/2024.

Filed Date: 7/26/24.

Accession Number: 20240726-5053.

Comment Date: 5 p.m. ET 8/16/24.

Docket Numbers: ER24-2600-000.

Applicants: Dominion Energy South Carolina, Inc.

Description: § 205(d) Rate Filing: 3rd Amended VCS Transmission Agreement to be effective 9/25/2024.

Filed Date: 7/26/24.

Accession Number: 20240726-5058.

Comment Date: 5 p.m. ET 8/16/24.

Docket Numbers: ER24-2601-000.

Applicants: Louise Solar Project, LLC.

Description: Baseline eTariff Filing: Application for Market Based Rate Authority to be effective 8/15/2024.

Filed Date: 7/26/24.

Accession Number: 20240726-5061.

Comment Date: 5 p.m. ET 8/16/24.

Docket Numbers: ER24-2602-000.

Applicants: Fillmore County Solar Project, LLC.

Description: Baseline eTariff Filing: Application for Market Based Rate Authority to be effective 9/1/2024.

Filed Date: 7/26/24.

Accession Number: 20240726-5062.

Comment Date: 5 p.m. ET 8/16/24.

Docket Numbers: ER24-2603-000.

Applicants: Fayette Solar, LLC.

Description: Baseline eTariff Filing: Application for Market Based Rate Authority to be effective 10/1/2024.

Filed Date: 7/26/24.

Accession Number: 20240726-5063.

Comment Date: 5 p.m. ET 8/16/24.

Docket Numbers: ER24-2604-000.

Applicants: PJM Interconnection, L.L.C.

Description: § 205(d) Rate Filing: Original NSA Service Agreement No. 7335, AC2-123 to be effective 9/25/2024.

Filed Date: 7/26/24.

Accession Number: 20240726-5075.

Comment Date: 5 p.m. ET 8/16/24.

Docket Numbers: ER24-2605-000.

Applicants: Midcontinent Independent System Operator, Inc.

Description: § 205(d) Rate Filing: 2024-07-26_SA 6521 MISO-Union Electric Third SSR Agreement for Rush Island to be effective 9/1/2024.

Filed Date: 7/26/24.

Accession Number: 20240726-5081.

Comment Date: 5 p.m. ET 8/16/24.

Docket Numbers: ER24-2606-000.

Applicants: Midcontinent Independent System Operator, Inc.

Description: § 205(d) Rate Filing: 2024-07-26_SA 3795 Ameren Missouri-Kelso Solar 1st Rev GIA (J1087) to be effective 9/25/2024.

Filed Date: 7/26/24.

Accession Number: 20240726-5130.

Comment Date: 5 p.m. ET 8/16/24.

Docket Numbers: ER24-2607-000.

Applicants: NorthWestern Corporation.

Description: § 205(d) Rate Filing: RS332—LGIA with Colstrip Trans. Owners and Glendive Wind to be effective 6/18/2024.

Filed Date: 7/26/24.

Accession Number: 20240726-5144.

Comment Date: 5 p.m. ET 8/16/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: July 26, 2024.
Debbie-Anne A. Reese,
Acting Secretary.

[FR Doc. 2024-17013 Filed 8-1-24; 8:45 am]

BILLING CODE 6717-01-P